FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011526-006.

Title: M.O.S.K./Hoegh Autoliners Space Charter Agreement.

Parties: Hoegh Autoliners AS and Mitsui O.S.K. Lines Ltd.

Filing Party: Eric C. Jeffrey, Esq.; Nixon Peabody LLP; 401 9th Street NW., Suite 900; Washington, DC 20004

Synopsis: The amendment adds Mexico to the geographic scope of the agreement.

Agreement No.: 012233-001.

Title: CSCL/UASC/YMUK/CMA CGM/PIL Vessel Sharing and Slot Exchange Agreement—Asia and US/Canada West Coast Services.

Parties: China Shipping Container Lines Co., Ltd. and China Shipping Container Lines (Hong Kong) Co., Ltd. (acting as a single party); United Arab Shipping Company (S.A.G.); Yang Ming (UK) LTD.; CMA CGM S.A.; and Pacific International Lines (Pte) Ltd (PIL).

Filing Party: Patricia M. O'Neill; Blank & Rome LLP; 600 New Hampshire Ave NW., Washington DC 20037.

Synopsis: The adds CMA CGM and PIL as parties to the agreement and provides the terms and conditions under which the parties will exchange and charter slots. The amendment also adds Canada to the geographic scope of the agreement.

Agreement No.: 012306.

Title: DOCE/Seafreight Space Charter Agreement.

Parties: Dole Ocean Cargo Express, and Seafreight Line Ltd.

Filing Party: Wayne Rohde, Esq; Cozen O'Connor; 1627 I Street NW., Suite 1100; Washington, DC 20006.

Synopsis: The Agreement Authorizes Seafreight Line to charter space to Dole Ocean Cargo Express in the trade between the U.S. Atlantic Coast and Central America.

Agreement No.: 012307.

Title: Maersk/APL Slot Exchange Agreement.

Parties: A.P. Moller-Maersk A/S trading under the name of Maersk Line and APL Co. Pte. Ltd./American President Lines, Ltd. (acting as a single party).

Filing Party: Wayne R. Rohde, Esq.; Cozen O'Connor; 1627 I Street NW. Suite 1100; Washington, DC 20006.

Synopsis: The agreement would authorize the parties to exchange space on their respective services between the U.S. Atlantic Coast and the Middle East and would also authorize APL to charter space to Maersk Line in the trade between Asia and the U.S. West Coast.

By Order of the Federal Maritime Commission.
Dated: November 28, 2014.
Karen V. Gregory,
Secretary.

[FR Doc. 2014-28442 Filed 12-2-14; 8:45 am]

BILLING CODE 6730-01-P